DEPARTMENT OF ENERGY

Federal Energy Regulatory Commission

[Docket No. RP01-242-001]

Southern Natural Gas Company; Notice of Compliance Filing

April 20, 2001

Take notice that on April 16, 2001, Southern Natural Gas Company (Southern), tendered for filing as part of FERC Gas Tariff, Seventh Revised Volume No. 1, the following tariff sheets, with an effective date of April 1, 2001:

First Revised Sheet No. 1

Eleventh Revised Sheet No. 2

Sixth Revised Sheet No. 3

Substitute Original Sheet No. 95D

Substitute Original Sheet No. 95E

Substitute Original Sheet No. 95G.01

Substitute Original Sheet No. 95H

Substitute Original Sheet No. 95I

Third Revised Sheet No. 144A

Southern states that the purpose of the filing is to comply with the Commission's March 30, 2001 Order in the above-captioned docket which authorized Southern to implement a park and loan (PAL) service on its system effective April 1, 2001.

Southern states that the tariff sheets include changes to its new Rate Schedule PAL as required by the order to clarify and respond to issues raised regarding the notice provisions, the index price for loan penalties, the ability of Southern to schedule overrun quantities for the service and clarification of Southern's remedies for unscheduled actions by Shippers, revision of the Table of Contents to its Tariff to reflect the PAL service, and language added to section 14.4 of the General Terms and Conditions to allow any penalty revenues received by Southern net of costs under Rate Schedule PAL to be credited to Southern's Storage Cost Reconciliation Mechanism.

In addition, Southern states that it has included in the filing workpapers showing how the rates under Rate Schedule PAL were derived and a cost and revenue study showing estimated costs and revenues for the first twelve months of service commencing April 1, 2001.

Southern states that copies of the filing will be served upon its shippers an interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at

http://www.ferc.fed.us/efi/doorbell.htm.

Linwood A. Watson, Jr.,
Acting Secretary.

[FR Doc. 01-10314 Filed 4-25-01; 8:45 am]

BILLING CODE 6717-01-M